NATIONAL FOUNDATION ON THE ARTS AND THE HUMANITIES

National Endowment for the Arts; Combined Arts Advisory Panel—Agenda Changes

Pursuant to Section 10(a)(2) of the Federal Advisory Committee Act (Pub. L. 92-463), as amended, notice is hereby given of changes in the agendas for two meetings of the Combined Arts Advisory Panel to the National Council on the Arts (Arts Learning sections A1 and B) to be held at the Nancy Hanks Center, 1100 Pennsylvania Avenue, NW., Washington, DC, 20506 as follows:

Arts Learning Panel A1: October 15-19, 2001, Room 716. The open session of this meeting will be held from 9:30 a.m. to 10:30 a.m. on October 19th, instead of from 10 a.m. to 12 p.m. as previously announced. The meeting will end at 12:30 p.m. on the 19th.

Arts Learning Panel B: October 9-12, 2001, Room 716. The open session of this meeting will be held from 9 a.m to 10 a.m on October 12th instead of 10:30 a.m. to 12 p.m. as previously announced. The meeting will end at 1 p.m. on the 12th.

Dated: September 28, 2001.
Kathy Plowitz-Worden,
Panel Coordinator.

[FR Doc. 01-24698 Filed 10-1-01; 8:45 am]

BILLING CODE 7537-01-U